DEPARTMENT OF THE INTERIOR

National Park Service

[NPS-IMR-YELL-15018;PPIMYELL82, PPMRSNR1Z.AM0000]

Remote Vaccination Program To Reduce the Prevalence of Brucellosis in Yellowstone Bison, Record of Decision, Yellowstone National Park, Wyoming

AGENCY: National Park Service, Interior.

ACTION: Notice of Availability.

SUMMARY: The National Park Service announces the availability of the Record of Decision for the Remote Vaccination Program to Reduce the Prevalence of Brucellosis in Yellowstone Bison, Environmental Impact Statement, Yellowstone National Park, Wyoming. On March 3, 2014, the Regional Director, Intermountain Region approved the Record of Decision for the Environmental Impact Statement (EIS). As soon as practicable, the National Park Service will begin to implement the Preferred Alternative contained in the Final EIS issued on January 24, 2014.

ADDRESSES: The Record of Decision will be available for public inspection online at http://parkplanning.nps.gov/BisonRemoteVacc, and at the Yellowstone Center for Resources, P.O. Box 168, Yellowstone National Park, Wyoming 82190, telephone (307) 344-2203.

FOR FURTHER INFORMATION CONTACT: Jennifer Carpenter or Rick Wallen, P.O. Box 168, Yellowstone National Park, WY 82190, telephone (307) 344-2203, or by email at YELL_Bison_Management@NPS.GOV.

SUPPLEMENTARY INFORMATION: The National Park Service (NPS) considered three alternatives in the Final EIS: Alternative A—No Action; Alternative B—Remote Delivery Vaccination for Young Bison Only; and Alternative C—Remote Delivery Vaccination for Young Bison and Adult Females. The NPS has identified Alternative A—No Action, as the Preferred Alternative in the Final EIS and as the Selected Action in the Record of Decision based on substantial uncertainties associated with vaccine efficacy, delivery, duration of the vaccine-induced protective immune response, diagnostics, bison behavior and evaluation of public comments. Consistent with the 2000 Interagency Bison Management Plan (IBMP), under the Selected Action the NPS will continue hand-syringe vaccination of bison at capture facilities near the park boundary and conduct monitoring and research on the relationship between vaccine-induced immune responses and protection from clinical disease (e.g., abortions). Also, selective culling of potentially infectious bison based on age and diagnostic test results may be continued at capture facilities to reduce the number of abortions that maintain the disease. The NPS will continue the adaptive management program, as described in the 2000 Record of Decision for the IBMP and subsequent adaptive management adjustments, to learn more about the disease brucellosis and answer uncertainties, as well as to develop or improve suppression techniques that could be used to facilitate effective outcomes, minimize adverse impacts, and lower operational costs of efforts to reduce brucellosis prevalence in the future.

As part of the Selected Action, the NPS will also continue to work with other federal and state agencies, American Indian tribes, academic institutions, non-governmental organizations, and other interested parties to develop holistic management approaches, monitoring, and research projects that could be conducted to improve the adaptive management decision process, and better vaccines, delivery methods, and diagnostics for reducing the prevalence of brucellosis in bison and elk and transmissions to cattle. The Record of Decision includes a statement of the decision made, synopses of other alternatives considered, the basis for the decision, a description of the environmentally preferable alternative, a finding of no impairment of park resources and values, a list on measures to minimize environmental harm, and an overview of public involvement in the decision-making process.

Dated: May 19, 2014.
Sue E. Masica,
Regional Director, Intermountain Region, National Park Service.

[FR Doc. 2014-14544 Filed 6-20-14; 8:45 am]

BILLING CODE 4312-CB-P